ENVIRONMENTAL PROTECTION AGENCY

[FRL-7591-2]

EPA Public Meeting: Market Enhancement Opportunities for Water-Efficient Products; Notice of Public Meeting

AGENCY: Environmental Protection Agency (EPA).

ACTION: Notice.

SUMMARY: The Environmental Protection Agency is hosting a one-day public meeting to discuss market enhancement opportunities for water-efficient products. EPA's goal is to bring together stakeholders from Federal, state and local governments; utilities; manufacturers; building trade associations; consumer groups; and other interested parties to exchange information and views on promoting water-efficient products in the marketplace. The focus of the January meeting will be on activities and partnership building with utilities; state, regional, and local governments; and non-government organizations. The first meeting was held in Washington, DC on October 9, 2003. Two additional public meetings are being planned: one in Phoenix, AZ in February, and one in Seattle, WA in March; notice will be provided on locations and times when available.

The meeting will consist of several panel discussions, and is open to the public. The audience will have an opportunity to ask questions and provide comments at the conclusion of the meeting.

DATES: The meeting will begin at 9 a.m. on January 15, 2004.

ADDRESSES: The meeting will be held at the Austin Hilton, 500 East 4th St., Austin, TX 78701.

FOR FURTHER INFORMATION CONTACT: For more information on this meeting, please see EPA's Water Efficiency Web page at http://www.epa.gov/owm/water-efficiency/index.htm. To register online from the Water Efficiency Program page, click on the registration form link. You may also register by contacting ERG, Inc. by phone (781) 674-7374, or by downloading the registration form and sending the completed form to ERG via fax at (781) 674-2906 or mail to ERG, Conference Registration, 110 Hartwell Avenue, Lexington, MA 02421-3136. Seating is limited, therefore please register or request special accommodations no later than January 9, 2004.

Dated: November 18, 2003.
Sheila Frace,
Acting Director, Office of Wastewater Management.

[FR Doc. 03-29432 Filed 11-24-03; 8:45 am]

BILLING CODE 6560-50-P